DEPARTMENT OF ENERGY

Federal Energy Regulatory Commission

[Project No. 2496-194]

Eugene Water and Electric Board; Notice of Application for Amendment of License and Soliciting Comments, Motions To Intervene, and Protests

January 23, 2009.

a. Type of Application: Amendment of License.

b. Project Number: 2496-194.

c. Date Filed: December 24, 2008.

d. Applicant: Eugene Water and Electric Board.

e. Name of Project: Leaburg-Walterville Hydroelectric Project.

f. Location: The project is located on the McKenzie River in Lane County, Oregon.

g. Filed Pursuant to: Federal Power Act, 16 U.S.C. 791(a)-825(r) and 799 and 801.

h. Applicant Contact: Mr. W. Brian Connors, FERC License Coordinator, Eugene Water and Electric Board, 500 East 4th Avenue, P.O. Box 10148, Eugene, Oregon 97440; telephone: (541) 344-6311 ext. 3435.

i. FERC Contact: Any questions on this notice should be addressed to Christopher Yeakel at (202) 502-8132, or e-mail address: christopher.yeakel@ferc.gov.

j. Deadline for filing comments and or motions: February 23, 2009.

k. Description of Request: Eugene Water and Electric Board proposes to construct a new boat-launch facility at Leaburg Lake near the Goodpasture Covered Bridge. The facility would consist of an entrance from the McKenzie Highway to an access road that would lead to a parking area and a 20-foot wide concrete boat ramp. The boat-launch facility would have parking for 10 vehicle-trailer combinations and 8 conventional vehicles, and a new vault toilet. The licensee consulted with the U.S. Fish and Wildlife Service, National Marine Fisheries Service, Oregon State Marine Board, Oregon Department of Fish and Wildlife, and the Oregon Parks and Recreation Department. The Oregon State Marine Board provided comments on the application.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-2496) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-2496-194). All documents (original and eight copies) should be filed with: Kimberly D. Bose, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-1890 Filed 1-28-09; 8:45 am]

BILLING CODE 6717-01-P